NATIONAL AERONAUTICS AND SPACE ADMINISTRATION

[Notice: (17-010)]

NASA Advisory Council; Ad Hoc Task Force on STEM Education; Meeting

AGENCY: National Aeronautics and Space Administration.

ACTION: Notice of meeting.

SUMMARY: In accordance with the Federal Advisory Committee Act, Public Law 92-463, as amended, the National Aeronautics and Space Administration announces a meeting of the Ad Hoc Task Force on Science, Technology, Engineering and Mathematics (STEM) of the NASA Advisory Council (NAC). This Task Force reports to the NAC.

DATES: Monday, March 13, 2017, 9:30 a.m.-3:00 p.m., Local Time.

ADDRESSES: NASA Headquarters, Room 3H42 (MIC 3A), 300 E Street SW., Washington, DC 20546.

FOR FURTHER INFORMATION CONTACT: Dr. Beverly Girten, Executive Secretary, NAC Ad Hoc Task Force on STEM Education, NASA Headquarters, Washington, DC 20546, (202) 358-0212, or beverly.e.girten@nasa.gov.

SUPPLEMENTARY INFORMATION: The meeting will be open to the public to the capacity of the room. This meeting will also be available telephonically and by WebEx. You must use a touch tone phone to participate in this meeting. Any interested person may dial the toll free access number 844-467-6272 or toll access number 720-259-6462, and then the numeric participant passcode: 329152 followed by the # sign. To join via WebEx, the link is https://nasa.webex.com/, the meeting number is 991 306 157 and the password is March132017! (Password is case sensitive.) NOTE: If dialing in, please “mute” your telephone. The agenda for the meeting will include the following:

—Opening Remarks by Chair

—Leadership Transition

—NASA Education For You

—Business Service Assessment and Lean Six Sigma Updates

—Formulation of Recommendations and Findings

—Other Related Topics

Attendees will be requested to sign a register and to comply with NASA Headquarters security requirements, including the presentation of a valid picture ID to Security before access to NASA Headquarters. Due to the Real ID Act, Public Law 109-13, any attendees with driver's licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: Maine, Minnesota, Missouri, Montana, and Washington. Foreign nationals attending this meeting will be required to provide a copy of their passport and visa in addition to providing the following information no less than 10 days prior to the meeting: Full name; gender; date/place of birth; citizenship; passport information (number, country, telephone); visa information (number type, expiration date); employer/affiliation information (name of institution, address, country, telephone); title/position of attendee. To expedite admittance, attendees with U.S. citizenship and Permanent Residents (green card holders) are requested to provide full name and citizenship status no less than 3 working days prior to the meeting by contacting Dr. Beverly Girten via email at beverly.e.girten@nasa.gov or by telephone at (202) 358-0212. It is imperative that the meeting be held on this date to accommodate the scheduling priorities of the key participants.

Patricia D. Rausch,
Advisory Committee Management Officer, National Aeronautics and Space Administration.

[FR Doc. 2017-03667 Filed 2-23-17; 8:45 am]

BILLING CODE 7510-13-P